DEPARTMENT OF ENERGY

Federal Energy Regulatory Commission

Combined Notice of Filings #1

September 9, 2008.

Take notice that the Commission received the following electric corporate filings:

Docket Numbers: EC08-121-000.

Applicants: Grand Ridge Energy LLC; Aircraft Services Corporation; METROPOLITAN LIFE INSURANCE CO.

Description: Grand Ridge Energy LLC et al. submits an application for authorization under Section 203 of the Federal Power Act and Request for Waivers and Expedited Action.

Filed Date: 09/03/2008.

Accession Number: 20080905-0108.

Comment Date: 5 p.m. Eastern Time on Wednesday, September 24, 2008.

Take notice that the Commission received the following exempt wholesale generator filings:

Docket Numbers: EG08-94-000.

Applicants: Fowler Ridge Wind Farm LLC.

Description: Notice of Self-Certification as an Exempt Wholesale Generator.

Filed Date: 09/05/2008.

Accession Number: 20080905-5129.

Comment Date: 5 p.m. Eastern Time on Friday, September 26, 2008.

Docket Numbers: EG08-95-000.

Applicants: Flat Ridge Wind Energy, LLC.

Description: Notice of Self-Certification as an Exempt Wholesale Generator.

Filed Date: 09/08/2008.

Accession Number: 20080908-5040.

Comment Date: 5 p.m. Eastern Time on Monday, September 29, 2008.

Docket Numbers: EG08-96-000.

Applicants: Fowler Ridge III Wind Farm LLC.

Description: Notice of Self-Certification as an Exempt Wholesale Generator under EG08-96.

Filed Date: 09/08/2008.

Accession Number: 20080908-5108.

Comment Date: 5 p.m. Eastern Time on Monday, September 29, 2008.

Take notice that the Commission received the following electric rate filings:

Docket Numbers: ER96-780-020.

Applicants: Southern Company Services, Inc.

Description: Southern Companies submits the updated market power analysis performed for Southern Companies.

Filed Date: 09/02/2008.

Accession Number: 20080905-0104.

Comment Date: 5 p.m. Eastern Time on Monday, November 3, 2008.

Docket Numbers: ER96-1085-013.

Applicants: South Carolina Electric & Gas Company.

Description: South Carolina Electric & Gas Company submits an updated power analysis supporting SCE&G's continued authorization to make wholesale power sales as market-based rates.

Filed Date: 09/02/2008.

Accession Number: 20080908-0156.

Comment Date: 5 p.m. Eastern Time on Monday, November 3, 2008.

Docket Numbers: ER97-2846-013; ER99-2311-010.

Applicants: Florida Power Corporation; Carolina Power & Light Company.

Description: Progress Energy Inc. et al. submits an updated market power analysis in compliance with Order 697-A.

Filed Date: 09/02/2008.

Accession Number: 20080905-0135.

Comment Date: 5 p.m. Eastern Time on Monday, November 3, 2008.

Docket Numbers: ER97-3359-011; ER01-2074-008; ER98-3566-016.

Applicants: Florida Power & Light Company; Calhoun Power Company I, LLC; FPL Energy Power Marketing, Inc.

Description: Florida Power & Light Co. et al. submits their triennial market power update for the Southeast region.

Filed Date: 09/02/2008.

Accession Number: 20080908-0153.

Comment Date: 5 p.m. Eastern Time on Monday, November 3, 2008.

Docket Numbers: ER00-1712-008; ER02-2408-003; ER00-744-006; ER02-1327-005; ER00-1703-003; ER02-1749-003; ER02-1747-003; ER99-4503-005; ER00-2186-003; ER01-1559-004.

Applicants: PPL Electric Utilities Corporation; Lower Mount Bethel Energy, LLC; PPL Brunner Island, LLC; PPL Holtwood, LLC; PPL Martins Creek, LLC; PPL Susquehanna, LLC; PPL University Park, LLC; PPL EnergyPlus, LLC; PPL Edgewood Energy, LLC; PPL Shoreham Energy, LLC; PPL Great Works, LLC; PPL Maine, LLC; PPL Wallingford Energy LLC.

Description: PPL Electric Utilities Corporation et al. submits a revised market power analysis that incorporates the results of the updated simultaneous import limitation studies for the PJM balancing authority area market, etc.

Filed Date: 09/02/2008.

Accession Number: 20080908-0168.

Comment Date: 5 p.m. Eastern Time on Tuesday, September 23, 2008.

Docket Numbers: ER01-468-008; ER00-3621-009; ER00-3746-009; ER04-318-004; ER05-36-005; ER05-37-005; ER05-34-003; ER05-35-005; ER04-249-005; ER99-1695-010; ER97-30-006; ER02-23-011; ER07-1306-004; ER96-2869-013; ER97-3561-005; ER00-1737-011.

Applicants: Dominion Energy Brayton Point, LLC; Dominion Energy Kewaunee, Inc.; Dominion Energy Manchester Street, Inc.; Dominion Energy Marketing, Inc.; Dominion Energy New England, Inc.; Dominion Energy Salem; Dominion Nuclear Connecticut, Inc.; DOMINION NUCLEAR MARKETING III, LLC; Dominion Retail, Inc.; Elwood Energy, LLC; Fairless Energy, LLC; Kincaid Generation, LLC; NedPower Mount Storm, LLC; State Line Energy, LLC; Virginia Electric and Power Company.

Description: Virginia Electric and Power Co. et al. submits a Supplemental Affidavit of Julie R. Solomon to revise the market power analysis.

Filed Date: 09/02/2008.

Accession Number: 20080904-0524.

Comment Date: 5 p.m. Eastern Time on Tuesday, September 23, 2008.

Docket Numbers: ER02-579-008.

Applicants: TORYS LLP.

Description: Notification of Change in Status.

Filed Date: 09/05/2008.

Accession Number: 20080905-5053.

Comment Date: 5 p.m. Eastern Time on Friday, September 26, 2008.

Docket Numbers: ER02-580-009.

Applicants: Pawtucket Power Associates Limited Partnership.

Description: Notification of Change in Status for Pawtucket Power Associates Limited Partnership.

Filed Date: 09/05/2008.

Accession Number: 20080905-5043.

Comment Date: 5 p.m. Eastern Time on Friday, September 26, 2008.

Docket Numbers: ER02-973-006.

Applicants: UBS AG.

Description: Application by UBS AG for Category Exemption in the Southeast and Northwest and for determination of Category 1 Status in the Southwest.

Filed Date: 09/02/2008.

Accession Number: 20080908-0151.

Comment Date: 5 p.m. Eastern Time on Tuesday, September 23, 2008.

Docket Numbers: ER04-617-003; ER99-3911-006.

Applicants: Black River Generation, LLC; Northbrook New York, LLC.

Description: Black River Generation, LLC et al. submits responses to FERC's Staff Request under Order 697 re Substitute Second Revised Sheet 1 to FERC Electric Tariff, First Revised Volume 1.

Filed Date: 09/05/2008.

Accession Number: 20080908-0200.

Comment Date: 5 p.m. Eastern Time on Friday, September 26, 2008.

Docket Numbers: ER05-968-003.

Applicants: TORYS LLP.

Description: Notification of Change in Status.

Filed Date: 09/05/2008.

Accession Number: 20080905-5052.

Comment Date: 5 p.m. Eastern Time on Friday, September 26, 2008.

Docket Numbers: ER05-493-003; ER05-494-003; ER05-495-003; ER08-901-003.

Applicants: Saracen Energy Power Advisors LP; Saracen Merchant Energy LP; Saracen Energy Partners, LP; Saracen Energy LP.

Description: Saracen Power Marketers submits revised rate schedule sheets to allow each to sell ancillary services in the Ancillary Services Market.

Filed Date: 09/04/2008.

Accession Number: 20080908-0152.

Comment Date: 5 p.m. Eastern Time on Thursday, September 25, 2008.

Docket Numbers: ER05-1262-016; ER06-1093-012.

Applicants: Flat Rock Windpower LLC.

Description: Flat Rock Windpower LLC submits revised tariff sheets in compliance with Order 697-A.

Filed Date: 09/03/2008.

Accession Number: 20080904-0521.

Comment Date: 5 p.m. Eastern Time on Wednesday, September 24, 2008.

Docket Numbers: ER06-1355-003.

Applicants: Evergreen Wind Power LLC.

Description: Supplemental Order No. 697 Compliance Filing of Evergreen Wind Power LLC.

Filed Date: 09/05/2008.

Accession Number: 20080905-5134.

Comment Date: 5 p.m. Eastern Time on Friday, September 26, 2008.

Docket Numbers: ER07-352-002.

Applicants: S.D. Warren Company.

Description: SD Warren Co. submits Substitute First Revised Sheet 1 et al. to FERC Electric Tariff, Original Volume 1.

Filed Date: 09/03/2008.

Accession Number: 20080904-0523.

Comment Date: 5 p.m. Eastern Time on Wednesday, September 24, 2008.

Docket Numbers: ER07-1212-002.

Applicants: TORYS LLP.

Description: Notification of Change in Status.

Filed Date: 09/05/2008.

Accession Number: 20080905-5054.

Comment Date: 5 p.m. Eastern Time on Friday, September 26, 2008.

Docket Numbers: ER08-891-001.

Applicants: Wisconsin Power and Light Company.

Description: Wisconsin Power and Light Co. submits a corrected agreement that designates it as Wholesale Power Supply Agreement 1.

Filed Date: 09/03/2008.

Accession Number: 20080904-0519.

Comment Date: 5 p.m. Eastern Time on Wednesday, September 24, 2008.

Docket Numbers: ER08-911-001.

Applicants: Alliant Energy Corporate Services, Inc.

Description: Wisconsin Power and Light Company submits a corrected wholesale power agreement that was originally submitted 5/2/08 with Rock Energy Cooperative.

Filed Date: 09/03/2008.

Accession Number: 20080904-0520.

Comment Date: 5 p.m. Eastern Time on Wednesday, September 24, 2008.

Docket Numbers: ER08-924-001.

Applicants: Alliant Energy Corporate Services, Inc.

Description: Wisconsin Power and Light Co. submits their correct agreement with the Wholesale Power Supplement Agreement 2.

Filed Date: 09/03/2008.

Accession Number: 20080904-0518.

Comment Date: 5 p.m. Eastern Time on Wednesday, September 24, 2008.

Docket Numbers: ER08-1348-001.

Applicants: Hardee Power Partners Limited.

Description: Hardee Power Partners Limited submits supplements to their 7/31/08 filing of the Hardee Switchyard Facilities Sharing Agreement with Seminole Electric Coop, Inc.

Filed Date: 09/04/2008.

Accession Number: 20080908-0150.

Comment Date: 5 p.m. Eastern Time on Thursday, September 25, 2008.

Docket Numbers: ER08-1467-000.

Applicants: Mississippi Power Company.

Description: Mississippi Power Company submits revised electric tariff and rates for wholesale, full-requirements electric service, FERC Electric Tariff, Third Revised Volume 1.

Filed Date: 08/29/2008.

Accession Number: 20080908-0171.

Comment Date: 5 p.m. Eastern Time on Friday, September 19, 2008.

Docket Numbers: ER08-1484-000.

Applicants: Entergy Services, Inc.

Description: Entergy Services, Inc on behalf of Entergy Operating Companies seeks acceptance of two, limited deviations from the Commission approved System Agreement Service Schedule MSS-4, effective 9/3/08.

Filed Date: 09/02/2008.

Accession Number: 20080903-0142.

Comment Date: 5 p.m. Eastern Time on Tuesday, September 23, 2008.

Docket Numbers: ER08-1486-000.

Applicants: Midwest Independent System Transmission.

Description: Midwest Independent Transmission System Operator, Inc submits proposed revisions to its Open Access Transmission and Energy Markets Tariff.

Filed Date: 08/29/2008.

Accession Number: 20080903-0302.

Comment Date: 5 p.m. Eastern Time on Friday, September 19, 2008.

Docket Numbers: ER08-1489-001.

Applicants: Southwest Power Pool, Inc.

Description: Southwest Power Pool, Inc submits a Clean Version of the 9/2/08 executed Meter Agent Service Agreement as Exhibit I with its proper designation.

Filed Date: 09/04/2008.

Accession Number: 20080908-0154.

Comment Date: 5 p.m. Eastern Time on Thursday, September 25, 2008.

Docket Numbers: ER08-1497-000.

Applicants: Sierra Pacific Power Company.

Description: Sierra Pacific Power Co submits an executed Service Agreement for Conditional Firm Point-to-Point Transmission Service with Mt Wheeler Power.

Filed Date: 09/04/2008.

Accession Number: 20080908-0149.

Comment Date: 5 p.m. Eastern Time on Thursday, September 25, 2008.

Docket Numbers: ER08-1498-000.

Applicants: Old Dominion Electric Cooperative, Inc.

Description: Application for acceptance of Second Amended and Restated Wholesale Power Contract and Changes to Rate Formula by Old Dominion Electric Cooperative.

Filed Date: 09/04/2008.

Accession Number: 20080908-0161.

Comment Date: 5 p.m. Eastern Time on Thursday, September 25, 2008.

Docket Numbers: ER08-1499-000.

Applicants: PJM Interconnection, L.L.C.

Description: PJM Interconnection LLC submits an executed Wholesale Market Participation Agreement entered into with the Baltimore Sun Company Inc.

Filed Date: 09/05/2008.

Accession Number: 20080908-0189.

Comment Date: 5 p.m. Eastern Time on Friday, September 26, 2008.

Docket Numbers: ER08-1500-000.

Applicants: Central Maine Power Company.

Description: Central Maine Power Company submits an Engineering and Procurement Agreement dated 8/8/08 with TransCanada Maine Wind Development, Inc.

Filed Date: 09/05/2008.

Accession Number: 20080908-0188.

Comment Date: 5 p.m. Eastern Time on Friday, September 26, 2008.

Docket Numbers: ER08-1501-000.

Applicants: Southwestern Electric Power Company.

Description: Southwestern Electric Power Company submits a Power Supply Agreement dated 6/30/08 designated as Rate Schedule 127 with City of Prescott, Arkansas.

Filed Date: 09/05/2008.

Accession Number: 20080908-0187.

Comment Date: 5 p.m. Eastern Time on Friday, September 26, 2008.

Take notice that the Commission received the following open access transmission tariff filings:

Docket Numbers: OA08-127-000.

Applicants: Avista Corporation.

Description: Avista Corporation's Order No. 890-B Compliance Filing.

Filed Date: 09/05/2008.

Accession Number: 20080905-5032.

Comment Date: 5 p.m. Eastern Time on Friday, September 26, 2008.

Docket Numbers: OA08-128-000.

Applicants: Portland General Electric Company.

Description: Order No. 890 OATT Filing.

Filed Date: 09/05/2008.

Accession Number: 20080905-5124.

Comment Date: 5 p.m. Eastern Time on Friday, September 26, 2008.

Docket Numbers: OA08-32-003.

Applicants: Entergy Services, Inc.

Description: Order No. 890 OATT Compliance Filing of Entergy Services, Inc.

Filed Date: 09/05/2008.

Accession Number: 20080905-5148.

Comment Date: 5 p.m. Eastern Time on Friday, September 26, 2008.

Docket Numbers: OA08-129-000.

Applicants: Carolina Power & Light Company d/b/a Pro,Florida Power Corp. d/b/a Progress Energ,Progress Energy, Inc.

Description: Order No. 890-B OATT Compliance Filing.

Filed Date: 09/08/2008.

Accession Number: 20080908-5017.

Comment Date: 5 p.m. Eastern Time on Monday, September 29, 2008.

Docket Numbers: OA08-130-000.

Applicants: El Paso Electric Company.

Description: Order No. 890-B Compliance Filing.

Filed Date: 09/08/2008.

Accession Number: 20080908-5041.

Comment Date: 5 p.m. Eastern Time on Monday, September 29, 2008.

Docket Numbers: OA08-131-000.

Applicants: South Carolina Electric & Gas Company.

Description: Order No. 890-B OATT Compliance Filing.

Filed Date: 09/08/2008.

Accession Number: 20080908-5042.

Comment Date: 5 p.m. Eastern Time on Monday, September 29, 2008.

Docket Numbers: OA08-132-000.

Applicants: PacifiCorp.

Description: PacifiCorp submits Second Revised Sheet 21 et al. to FERC Electric Tariff, 7th Revised Volume 11 pursuant to Order 890 OATT Filing.

Filed Date: 09/08/2008.

Accession Number: 20080908-5066.

Comment Date: 5 p.m. Eastern Time on Monday, September 29, 2008.

Docket Numbers: OA08-133-000.

Applicants: Tucson Electric Power Company.

Description: Order No. 890 OATT Filing of Tucson Electric Power Company.

Filed Date: 09/08/2008.

Accession Number: 20080908-5067.

Comment Date: 5 p.m. Eastern Time on Monday, September 29, 2008.

Docket Numbers: OA08-134-000.

Applicants: UNS Electric, Inc.

Description: Order No. 890 OATT Filing of UNS Electric, Inc.

Filed Date: 09/08/2008.

Accession Number: 20080908-5068.

Comment Date: 5 p.m. Eastern Time on Monday, September 29, 2008.

Docket Numbers: OA08-135-000.

Applicants: Florida Power & Light Company.

Description: Compliance Filing of Order 890 OATT of Florida Power & Light Company.

Filed Date: 09/08/2008.

Accession Number: 20080908-5069.

Comment Date: 5 p.m. Eastern Time on Monday, September 29, 2008.

Docket Numbers: OA08-136-000.

Applicants: NorthWestern Corporation.

Description: Order No. 890 OATT Filing of NorthWestern Corporation.

Filed Date: 09/08/2008.

Accession Number: 20080908-5073.

Comment Date: 5 p.m. Eastern Time on Monday, September 29, 2008.

Docket Numbers: OA08-137-000.

Applicants: Sierra Pacific Resources Operating Company; Sierra Pacific Power Company; Nevada Power Company.

Description: Order No. 890-B OATT Filing.

Filed Date: 09/08/2008.

Accession Number: 20080908-5074.

Comment Date: 5 p.m. Eastern Time on Monday, September 29, 2008.

Docket Numbers: OA08-138-000.

Applicants: Cleco Power LLC.

Description: Order No. 890-B Compliance Filing.

Filed Date: 09/08/2008.

Accession Number: 20080908-5076.

Comment Date: 5 p.m. Eastern Time on Monday, September 29, 2008.

Docket Numbers: OA08-139-000.

Applicants: Duke Energy Carolinas, LLC.

Description: Order No. 890-B OATT Filing of Duke Energy Carolinas, LLC.

Filed Date: 09/08/2008.

Accession Number: 20080908-5079.

Comment Date: 5 p.m. Eastern Time on Monday, September 29, 2008.

Docket Numbers: OA08-140-000.

Applicants: E.ON U.S. LLC, Louisville Gas and Electric Company, Kentucky Utilities Company.

Description: Order No. 890-B OATT Filing.

Filed Date: 09/08/2008.

Accession Number: 20080908-5082.

Comment Date: 5 p.m. Eastern Time on Monday, September 29, 2008.

Docket Numbers: OA08-141-000.

Applicants: Deseret Generation & Transmission Co-op.

Description: Order No. 890-B OATT Compliance Filing.

Filed Date: 09/08/2008.

Accession Number: 20080908-5083.

Comment Date: 5 p.m. Eastern Time on Monday, September 29, 2008.

Docket Numbers: OA08-142-000.

Applicants: Puget Sound Energy, Inc.

Description: Order No. 890 OATT Filing.

Filed Date: 09/08/2008.

Accession Number: 20080908-5084.

Comment Date: 5 p.m. Eastern Time on Monday, September 29, 2008.

Docket Numbers: OA08-143-000.

Applicants: Tampa Electric Company.

Description: Order No. 890-B Compliance Filing.

Filed Date: 09/08/2008.

Accession Number: 20080908-5086.

Comment Date: 5 p.m. Eastern Time on Monday, September 29, 2008.

Docket Numbers: OA08-144-000.

Applicants: Southern Company Services, Inc.

Description: Order No. 890-B Compliance Filing of Southern Company Services, Inc.

Filed Date: 09/08/2008.

Accession Number: 20080908-5093.

Comment Date: 5 p.m. Eastern Time on Monday, September 29, 2008.

Docket Numbers: OA08-145-000.

Applicants: NewCorp Resources Electric Cooperative,

Description: Order No. 890-B OATT Filing.

Filed Date: 09/08/2008.

Accession Number: 20080908-5096.

Comment Date: 5 p.m. Eastern Time on Monday, September 29, 2008.

Docket Numbers: OA08-146-000.

Applicants: NORTHWESTERN CORP.

Description: Order No. 890-B Compliance Filing.

Filed Date: 09/08/2008.

Accession Number: 20080908-5097.

Comment Date: 5 p.m. Eastern Time on Monday, September 29, 2008.

Docket Numbers: OA08-147-000.

Applicants: Xcel Energy Services, Inc.

Description: Order No. 890-B OATT Filing.

Filed Date: 09/08/2008.

Accession Number: 20080908-5103.

Comment Date: 5 p.m. Eastern Time on Monday, September 29, 2008.

Docket Numbers: OA08-148-000.

Applicants: Maine Public Service Company.

Description: Order No. 890-B Compliance Filing.

Filed Date: 09/08/2008.

Accession Number: 20080908-5112.

Comment Date: 5 p.m. Eastern Time on Monday, September 29, 2008.

Docket Numbers: OA08-149-000.

Applicants: ENTERGY SERVICES INC.

Description: Order No. 890-B OATT Filing.

Filed Date: 09/08/2008.

Accession Number: 20080908-5147.

Comment Date: 5 p.m. Eastern Time on Monday, September 29, 2008.

Docket Numbers: OA08-150-000.

Applicants: MidAmerican Energy Company.

Description: Order No. 890-B implementation filing.

Filed Date: 09/05/2008.

Accession Number: 20080905-5150.

Comment Date: 5 p.m. Eastern Time on Friday, September 26, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-21457 Filed 9-12-08; 8:45 am]

BILLING CODE 6717-01-P